DEPARTMENT OF TRANSPORTATION

Office of the Secretary

Application of Mccall Aviation, Inc. for Commuter Air Carrier Authorization

AGENCY: Department of Transportation.

ACTION: Notice of Order to Show Cause (Order 2008-4-18), Docket DOT-OST-2007-28657.

SUMMARY: The Department of Transportation is directing all interested persons to show cause why it should not issue an order finding McCall Aviation, Inc., fit, willing, and able, and awarding it commuter air carrier authorization to engage in scheduled passenger air transportation as a commuter air carrier.

DATES: Persons wishing to file objections should do so no later than April 24, 2008.

ADDRESSES: Objections and answers to objections should be filed in Docket DOT-OST-2007-28657 and addressed to Docket Operations, (M-30, Room W12-140), U.S. Department of Transportation, 1200 New Jersey Avenue, SE., Washington, DC 20590, and should be served upon the parties listed in Attachment A to the order.

FOR FURTHER INFORMATION CONTACT: Ronâle Taylor, Air Carrier Fitness Division (X-56, Room W86-464), U.S. Department of Transportation, 1200 New Jersey Avenue, SE., Washington, DC 20590, (202) 366-9721.

Dated: April 10, 2008.
Michael W. Reynolds,
Acting Assistant Secretary For Aviation and International Affairs.

[FR Doc. E8-8262 Filed 4-16-08; 8:45 am]

BILLING CODE 4910-9X-P